DEPARTMENT OF LABOR

Occupational Safety and Health Administration

[Docket No. ICR-1218-0196(2002)]

Longshoring and Marine Terminal Operations; Extension of the Office of Management and Budget's (OMB) Approval of Information-Collection (Paperwork) Requirements

AGENCY: Occupational Safety and Health Administration (OSHA), Labor.

ACTION: Request for comment.

SUMMARY: OSHA solicits comment concerning its proposal to increase the existing burden-hour estimates for, and to extend OMB approval of, the information-collection requirements of the Standard on Longshoring (29 CFR part 1918) and Marine Terminal Operations (29 CFR part 1917).¹ The Standard contains requirements related to the testing, certification and marking of specific types of cargo lifting appliances and associated cargo handling gear and other cargo handling equipment such as conveyors and industrial trucks.

¹ Based on its assessment of the paperwork requirements contained in these Standards, the Agency estimates that the total burden hours increased compared to its previous burden-hour estimate. Under this notice, OSHA is not proposing to revise these paperwork requirements in any substantive manner, only to increase the burden hours imposed by the existing paperwork requirements.

DATES: Submit written comments on or before June 24, 2002.

ADDRESSES: Submit written comments to the Docket Office, Docket No. ICR-1218-0196(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collections specified by the Standard on Longshoring and Marine Terminals is available for inspection and copying in the Docket Office, or by requesting a copy from Theda Kenney at (202) 693-2222, or Todd Owen at (202) 693-2444. For electronic copies of the ICR, contact OSHA on the Internet at http://www.osha.gov, and select “Information Collection Requests.”

SUPPLEMENTARY INFORMATION:

I. Background

The Department of Labor, as part of its continuing effort to reduce paperwork and respondent (i.e., employer) burden, conducts a preclearance consultation program to provide the public with an opportunity to comment on proposed and containing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

The Standard contains a number of collections of information which are used by employers to ensure that employees are informed properly about the safety and health hazards associated with marine terminal and longshoring operations. OSHA uses the records developed in response to the collection of information requirements to find out if the employer is complying adequately with the provisions of the standards.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA is proposing to increase the existing burden-hour estimate, and to extend OMB approval of, the collection-of-information requirements specified by the Standard on Longshoring and Marine Terminals. The Agency is proposing to increase the current burden-hour estimate from 23,161 hours to 36,100 hours, a total increase of 12,999 hours. This increase was a result of identifying several miscalculations in the previous ICR.

Type of Review: Extension of a currently-approved information-collection requirement.

Title: Longshoring (29 CFR part 1918) and Marine Terminal Operations (29 CFR part 1917).

OMB Number: 1218-0196.

Affected Public: Business or other for-profit; Not-for-profit institutions; Federal government; State, local, or tribal governments.

Number of Respondents: 748.

Frequency of Recordkeeping: Varies (Initially; Annually; On occasion; Monthly; Weekly).

Average Time per Response: Varies from two minutes (.03 hour) to 8 hours.

Total Annual Hours Requested: 36,160.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (62 FR 50017).

Signed at Washington, DC, on April 18, 2002.
John L. Henshaw,
Assistant Secretary of Labor.

[FR Doc. 02-9922 Filed 4-22-02; 8:45 am]

BILLING CODE 4510—26—M